DEPARTMENT OF STATE

[Public Notice 8598]

Applications: NuStar Logistics, LP; Presidential Permit

AGENCY: Department of State.

ACTION: Notice of Receipt of an Application by NuStar Logistics, L.P., for Issuance of a Presidential Permit To Connect, Operate and Maintain Existing Pipeline Facilities on the Border of the United States and Mexico.

SUMMARY: Notice is hereby given that the Department of State (Department) has received from NuStar Logistics, L.P. (“NuStar”) an application to amend the 2003 Presidential Permit issued to Valero Logistics Operations L.P. to construct, connect, operate, and maintain pipeline facilities (the “Dos Laredos Pipeline”) crossing the international border between the United States and Mexico at a location on the Rio Grande river knows as “la Bota”, approximately six miles northwest of downtown Laredo, Texas. The application indicates that Valero Logistics Operations, L.P. has changed its name to NuStar Logistics, L.P., and requests that the amended permit reflect the partnership's current name. While the 2003 Presidential Permit only authorized the transportation of liquefied petroleum gas (“LPG”), NuStar seeks an amendment now to authorize the transport of LPG and petroleum products, including diesel.

NuStar Logistics, L.P., a Delaware limited partnership, is a subsidiary of NuStar Energy L.P., a publicly traded, limited partnership based in San Antonio, Texas.

The Dos Laredos Pipeline is an 8 ⅝ inch outer diameter pipeline that connects the NuStar terminal in Laredo, Texas, with a terminal in Nuevo Laredo, Tamaulipas, Mexico. The U.S. portion of Dos Laredos Pipeline consists of approximately 10.6 miles of pipeline from the NuStar terminal in Laredo, Texas to a location on the Rio Grande known as “La Bota,” approximately 6 miles northwest of Laredo.

The 2003 Presidential Permit permits the transportation of LPG. NuStar now requests authorization to transport LPG and petroleum products, including diesel.

NuStar stated that no significant physical changes to the pipeline would be required to transport petroleum products, and it is not proposing any new construction in the United States (aside from maintaining existing pipeline facilities). The Department of State will determine what kind of environmental documentation, if any, is appropriate for this proposed project.

Under E.O. 13337 the Secretary of State is designated and empowered to receive all applications for Presidential Permits for the construction, connection, operation, or maintenance at the borders of the United States, of facilities for the exportation or importation of liquid petroleum, petroleum products, or other fuels (except natural gas) to or from a foreign country. The Department of State will circulate this application to concerned federal agencies for comment. The Department of State has the responsibility to determine whether issuance of a new or amended Presidential Permit based upon NuStar's application would serve the U.S. national interest. The Department will issue a Federal Register notice later inviting public comment on whether issuance of the requested amended Presidential Permit would serve the national interest.

FOR FURTHER INFORMATION CONTACT: Office of Energy Diplomacy, Energy Resources Bureau (ENR/EDP/EWA) Department of State 2201 C St. NW., Ste 4843 Washington, DC 20520 Attn: Michael Brennan Tel: 202-647-7553. The application is available at http://www.state.gov/e/enr.

Dated: January 13, 2014.
Michael Brennan,
Energy Officer, Office of Europe, Western Hemisphere and Africa, Bureau of Energy Resources, U.S. Department of State.

[FR Doc. 2014-00914 Filed 1-16-14; 8:45 am]

BILLING CODE 4710-09-P